DEPARTMENT OF TRANSPORTATION

Federal Aviation Administration

14 CFR Part 71

[Docket No. FAA-2018-0986; Airspace Docket No. 18-AWP-20]

RIN 2120-AA66

Amendment of Air Traffic Service (ATS) Route T-333; Western United States

AGENCY: Federal Aviation Administration (FAA), DOT.

ACTION: Final rule.

SUMMARY: This action modifies Area Navigation (RNAV) Route (T-333) in the western United States. The modification is necessary due to the planned decommissioning of the Priest, CA, VOR navigation aid (NAVAID), which provides navigation guidance for portions of affected ATS route V-485. The decommissioning has rendered portions of V-485 unusable and amending T-333 will overcome affected portions of V-485. The Priest, CA, VOR is being decommissioned as part of the FAA's VOR Minimum Operational Network (MON) program.

DATES: Effective date 0901 UTC, July 16, 2020. The Director of the FEDERAL REGISTER approves this incorporation by reference action under Title 1 Code of Federal Regulations part 51 subject to the annual revision of FAA Order 7400.11 and publication of conforming amendments.

ADDRESSES: FAA Order 7400.11D, Airspace Designations and Reporting Points, and subsequent amendments can be viewed online at https://www.faa.gov/air_traffic/publications/. For further information, you can contact the Rules and Regulations Group, Federal Aviation Administration, 800 Independence Avenue SW, Washington, DC 20591; telephone: (202) 267-8783. The Order is also available for inspection at the National Archives and Records Administration (NARA). For information on the availability of FAA Order 7400.11D at NARA, email: fedreg.legal@nara.gov or go to https://www.archives.gov/federal-register/cfr/ibr-locations.html.

FOR FURTHER INFORMATION CONTACT: Kenneth Ready, Rules and Regulations, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the air traffic service route structure in the western United States to maintain the efficient flow of air traffic.

History

The FAA published a notice of proposed rulemaking for Docket No. FAA-2018-0986 in the Federal Register (83 FR 60788; November 27, 2018), amending RNAV route T-333 in the western United States. Interested parties were invited to participate in this rulemaking effort by submitting written comments on the proposal. No comments were received.

United States Area Navigation Routes are published in paragraph 6011, of FAA Order 7400.11D dated August 8, 2019, and effective September 15, 2019, which is incorporated by reference in 14 CFR 71.1. The RNAV route listed in this document will be subsequently published in the Order.

FAA Order 7400.11, Airspace Designations and Reporting Points, is published yearly and effective on September 15.

Availability and Summary of Documents for Incorporation by Reference

This document amends FAA Order 7400.11D, Airspace Designations and Reporting Points, dated August 8, 2019, and effective September 15, 2019. FAA Order 7400.11D is publicly available as listed in the ADDRESSES section of this document. FAA Order 7400.11D lists Class A, B, C, D, and E airspace areas, air traffic service routes, and reporting points.

The Rule

This action amends Title 14 Code of Federal Regulations (14 CFR) part 71 by amending RNAV route T-333. The route changes are outlined below.

T-333: T-333 is amended from the Fellows, CA, (FLW) VOR/DME to the BORED, CA, waypoint. The FAA extended the route to the southeast by 130 miles to connect to the Fellows CA, VOR/DME NAVAID, which is the starting point of the RNAV route. The extension is needed for navigation in the low altitude structure as V-485 is being gapped in a separate rulemaking action [Docket No. FAA-2018-0850 (83 FR 63603; December 11, 2018)] due to the decommissioning of the Priest, CA, VOR. The amendment removed the KLIDE, CA, FIX due to turn criteria for RNAV procedure development in order to rejoin T-333 at the BORED, CA, FIX.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of modifying RNAV route T-333 in the western United States qualifies for categorical exclusion under the National Environmental Policy Act and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to result in any significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019, and effective September 15, 2019, is amended as follows:

Paragraph 6011—United States Area Navigation Routes

T 333 FELLOWS, CA to TIPRE, CA [Amended]
Fellows, CA (FLW) | VOR/DME | (Lat. 35°05′35.10″ N, long. 119°51′56.08″ W)
REDDE, CA | FIX | (Lat. 35°39′35.48″ N, long. 120°17′42.14″ W)
LKHRN, CA | WP | (Lat. 36°05′59.82″ N, long. 120°45′22.53″ W)
RANCK, CA | FIX | (Lat. 36°35′29.90″ N, long. 121°06′10.37″ W)
HENCE, CA | FIX | (Lat. 36°55′28.65″ N, long. 121°25′49.36″ W)
GILRO, CA | FIX | (Lat. 37°02′46.62″ N, long. 121°34′06.76″ W)
BORED, CA | FIX | (Lat. 37°18′34.16″ N, long. 121°27′48.06″ W)
SMONE, CA | WP | (Lat. 37°32′10.45″ N, long. 121°21′30.65″ W)
OOWEN, CA | WP | (Lat. 37°42′25.17″ N, long. 121°16′29.21″ W)
TIPRE, CA | WP | (Lat. 38°12′21.00″ N, long. 121°02′09.00″ W)
* * * * * * *

Issued in Washington, DC, on April 23, 2020.
Scott M. Rosenbloom,
Acting Manager, Rules and Regulation Group.

[FR Doc. 2020-08946 Filed 4-27-20; 8:45 am]

BILLING CODE 4910-13-P